DEPARTMENT OF THE TREASURY

Internal Revenue Service

Internal Revenue Service Advisory Council (IRSAC); Nominations

AGENCY: Internal Revenue Service, Department of the Treasury.

ACTION: Request for applications.

SUMMARY: The Internal Revenue Service (IRS) requests applications of individuals to be considered for selection as Internal Revenue Service Advisory Council (IRSAC) members. Applications will be accepted for current vacancies and should describe and document the applicant's qualifications for membership. IRSAC is comprised of up to thirty-five (35) appointed members; approximately eight of these appointments will expire in December 2009. It is important that the IRSAC continue to represent a diverse taxpayer and stakeholder base. Accordingly, to maintain membership diversity, selection is based on the applicant's qualifications as well as areas of expertise. The Internal Revenue Service Advisory Council (IRSAC) provides an organized public forum for IRS officials and representatives of the public to discuss relevant tax administration issues. The council advises the IRS on issues that have a substantive effect on federal tax administration. As an advisory body designed to focus on broad policy matters, the IRSAC reviews existing tax policy and/or recommends policies with respect to emerging tax administration issues. The IRSAC suggests operational improvements, offers constructive observations regarding current or proposed IRS policies, programs, and procedures, and advises the IRS with respect to issues having substantive effect on Federal tax administration.

DATES: Written applications must be postmarked or faxed on or before June 16, 2009.

ADDRESSES: Applications should be sent to National Public Liaison, CL:NPL:P, Room 7559 IR, 1111 Constitution Avenue, NW., Washington, DC 20224, Attn: Lorenza Wilds; or by e-mail: *public_liaison@irs.gov. Applications may be submitted by mail to the address above or faxed to 202-927-4123. Application packages are available on the Tax Professional's Page, which is located on the IRS Internet Web site at http://www.irs.gov/taxpros/index.html.

FOR FURTHER INFORMATION CONTACT: Ms. Lorenza Wilds at 202-622-6440 (not a toll-free number).

SUPPLEMENTARY INFORMATION: IRSAC was authorized under the Federal Advisory Committee Act, Public Law No. 92-463. The first Advisory Group to the Commissioner of Internal Revenue—or the Commissioner's Advisory Group (“CAG”)—was established in 1953 as a “national policy and/or issue advisory committee.” Renamed in 1998, the Internal Revenue Service Advisory Council (IRSAC) reflects the agency-wide scope of its focus as an advisory body to the entire agency. The IRSAC's primary purpose is to provide an organized public forum for senior IRS executives and representatives of the public to discuss relevant tax administration issues. Conveying the public's perception of IRS activities, the IRSAC is comprised of individuals who bring substantial, disparate experience and diverse backgrounds on the Council's activities. Membership is balanced to include representation from the taxpaying public, the tax professional community, small and large businesses, state tax administration, and the payroll community. IRSAC members are appointed by the Commissioner of the Internal Revenue Service and serve a term of three years. There are four subcommittees of IRSAC, the Small Business/Self Employed (SB/SE); Large Mid-Size Business (LMSB); Wage & Investment (W&I); and the Office of Professional Responsibility (OPR) subcommittee. Members are not paid for their services. However, travel expenses for working sessions, public meetings and orientation sessions, such as airfare, per diem, and transportation to and from airports, train stations, etc., are reimbursed within prescribed federal travel limitations. Receipt of applications will be acknowledged, these individuals contacted, and immediately thereafter, biographical information must be completed and returned to Ms. Lorenza Wilds in National Public Liaison within fifteen (15) days. In accordance with Department of Treasury Directive 21-03, a clearance process including annual tax checks, a Federal Bureau of Investigation (FBI) fingerprint check, and a practitioner check with the Office of Professional Responsibility will be conducted.

Equal opportunity practices will be followed for all appointments to the IRSAC in accordance with the Department of Treasury and IRS policies. To ensure that the recommendations of the IRSAC have taken into account the needs of the diverse groups served by the IRS, membership shall include individuals who demonstrate the ability to represent minorities, women, and persons with disabilities.

Dated: April 14, 2009.
Candice Cromling,
Director, National Public Liaison.

[FR Doc. E9-9293 Filed 4-22-09; 8:45 am]

BILLING CODE 4830-01-P